DEPARTMENT OF COMMERCE

Foreign-Trade Zones Board

[Docket 18-2005]

Foreign-Trade Zone 183—Austin, TX, Application for Subzone, Samsung Austin Semiconductor, LP (Semiconductor Memory Devices), Austin, TX

An application has been submitted to the Foreign-Trade Zones Board (the Board) by the Foreign-Trade Zone of Central Texas, Inc., grantee of FTZ 183, requesting special-purpose subzone status with export-only manufacturing authority (semiconductor memory devices) for the facilities of Samsung Austin Semiconductor, LP (Samsung), located in Austin, Texas. The application was submitted pursuant to the Foreign-Trade Zones Act, as amended (19 U.S.C. 81a-81u), and the regulations of the Board (15 CFR part 400). It was formally filed on April 28, 2005.

The facilities for which subzone status is proposed are located at three sites (192.1 acres total; 876,453 sq. ft. of enclosed space): Site #1—Samsung Austin Semiconductor facilities (186.1 acres; 764,453 sq. ft.)—located at 12100 Samsung Boulevard in Austin, Texas; Site #2—HISCO facilities (4.1 acres; 62,000 sq. ft.)—located at 8330 Cross Park Drive in Austin; and Site #3—Three Way Inc. facilities (1.9 acres; 50,000 sq. ft.)—located at 4009 Commercial Center Drive in Austin.

The facilities (approximately 950 employees) may be used under FTZ procedures for manufacturing, processing, warehousing, and distributing for export purposes only semiconductors and related devices. For Samsung's current manufacturing, foreign-sourced materials account for approximately 26 percent of finished-product value. The application lists the categories of material inputs which may be sourced from abroad, including wafers (HTSUS category 3818.00), chemicals (2809.20, 2826.11, 2846.10, 3814.00) and photo resist (3707.90).

Zone procedures would exempt Samsung from Customs duty payments on foreign components used in export production. Samsung would also be able to avoid duty on foreign inputs which become scrap/waste, estimated at no more than five percent of imported inputs. Samsung may also realize logistical/procedural and other benefits from subzone status. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is June 20, 2005. Rebuttal comments in response to material submitted during the foregoing period may be submitted during the subsequent 15-day period to July 6, 2005.

A copy of the application and accompanying exhibits will be available for public inspection at the Office of the Foreign-Trade Zones Board's Executive Secretary at address Number 1 listed above and at the Austin U.S. Export Assistance Center, 211 E. 11th St., 4th Floor, Austin, TX 78701.

Dated: April 28, 2005.
Dennis Puccinelli,
Executive Secretary.

[FR Doc. 05-8993 Filed 5-4-05; 8:45 am]

BILLING CODE 3510-DS-P